INTERNATIONAL TRADE COMMISSION

[Investigation No. 332-550]

Trade and Investment Policies in India, 2014-2015

AGENCY: United States International Trade Commission.

ACTION: Institution of investigation and scheduling of hearing.

SUMMARY: Following receipt on September 25, 2014, of a joint request from the House Committee on Ways and Means and the Senate Committee on Finance (Committees) under section 332(g) of the Tariff Act of 1930 (19 U.S.C. 1332(g)), the U.S. International Trade Commission (USITC, or Commission) instituted investigation No. 332-550, Trade and Investment Policies in India, 2014-2015.

DATES:

March 24, 2015: Deadline for filing request to appear at the public hearing.

March 26, 2015: Deadline for filing pre-hearing briefs and statements.

April 7, 2015: Public hearing.

April 14, 2015: Deadline for filing post-hearing briefs and statements.

June 2, 2015: Deadline for filing all other written submissions.

September 24, 2015: Transmittal of Commission report to the Committees.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at http://www.usitc.gov/secretary/edis.htm.

FOR FURTHER INFORMATION CONTACT: Project Leaders James Stamps (202-205-3227 or james.stamps@usitc.gov) or Deputy Project Leader Jeff Okun-Kozlowicki (202-205-5991 or jeff.okun.kozlowicki@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: In their request letter the Committees noted that the Commission is in the process of completing an investigation and report on India's trade, investment, and industrial policies covering the period 2003 through mid-2014 (Commission investigation No. 332-543, Trade, Investment, and Industrial Policies in India: Effects on the U.S. Economy). The Committees also noted the recent national elections in India and the formation of a new Bharatiya Janata Party-led government.

As stated in the letter, in light of the new government and the Committees' interest in receiving the most comprehensive and up-to-date information possible, the Committees asked the Commission to conduct a second investigation concerning any significant changes since the first USITC investigation to India's industrial policies that discriminate against U.S. trade and investment. As requested by the Committees, the Commission will include in its report for the second investigation:

• Information about any significant changes by the new Indian government to the trade and investment policies identified in the Commission's first report (which is to be delivered to the Committees by December 15, 2014); and

• Information on any new relevant trade and investment policies and practices in India, focusing on the period from mid-2014. The Committees asked that the Commission deliver its second report by September 24, 2015. The Committees also noted that they intend to make the Commission's report available to the public and asked that the report not contain any confidential business information.

Public Hearing: A public hearing in connection with this investigation will be held at the U.S. International Trade Commission Building, 500 E Street SW., Washington, DC, beginning at 9:30 a.m. on April 7, 2015. Requests to appear at the public hearing should be filed with the Secretary, no later than 5:15 p.m., March 24, 2015, in accordance with the requirements in the “Submissions” section below. All pre-hearing briefs and statements should be filed not later than 5:15 p.m., March 26, 2015; and all post-hearing briefs and statements should be filed not later than 5:15 p.m., April 14, 2015. In the event that, as of the close of business on March 24, 2015, no witnesses are scheduled to appear at the hearing, the hearing will be canceled. Any person interested in attending the hearing as an observer or nonparticipant should contact the Office of the Secretary at 202-205-2000 after March 24, 2015, for information concerning whether the hearing will be held.

Written Submissions: In lieu of or in addition to participating in the hearing, interested parties are invited to file written submissions concerning this investigation. All written submissions should be addressed to the Secretary, and should be received not later than 5:15 p.m., June 2, 2015. All written submissions must conform with the provisions of section 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraph for further information regarding confidential business information). Persons with questions regarding electronic filing should contact the Secretary (202-205-2000).

The Commission intends to publish summaries of the positions of interested persons in an appendix to its report. Persons wishing to have a summary of their position included in the appendix should include a summary with their written submission. The summary may not exceed 500 words, should be in MSWord format or a format that can be easily converted to MSWord, and should not include any confidential business information. The summary will be published as provided if it meets these requirements and is germane to the subject matter of the investigation. In the appendix the Commission will identify the name of the organization furnishing the summary, and will include a link to the Commission's Electronic Document Information System (EDIS) where the full written submission can be found. Any submissions that contain confidential business information (CBI) must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties. In its request letter, the Committees stated that they intend to make the Commission's report available to the public, and asked that the Commission not include any confidential business information in the report that it sends to the Committees. Any confidential business information received by the Commission in this investigation and used in preparing this report will not be published in a manner that would reveal the operations of the firm supplying the information.

Issued: October 28, 2014.
By order of the Commission.
Lisa R. Barton,
Secretary to the Commission.

[FR Doc. 2014-25926 Filed 10-30-14; 8:45 am]

BILLING CODE 7020-02-P